ENVIRONMENTAL PROTECTION AGENCY

[FRL-8728-8]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2289.01; National Volatile Organic Compound (VOC) Emission Standards for Aerosol Coatings (40 CFR part 59, subpart E) (Final Rule); in 40 CFR part 59, subpart E; was approved 09/16/2008; OMB Number 2060-0617; expires 09/30/2011.

EPA ICR Number 2031.03; Protection of Stratospheric Ozone: Request for Applications from Critical Use Exemption for the Phaseout of Methyl Bromide (Renewal); in 40 CFR part 82; was approved 10/03/2008; OMB Number 2060-0617; expires 10/31/2011.

Disapproval

EPA ICR Number 2254.01; Responsible Appliance Disposal Program; was disapproved 09/21/2008.

Short Term Extensions of Expiration Date

EPA ICR Number 1680.04; Combined Sewer Overflow Control Policy; a short term extension of the expiration date was granted by OMB on 09/25/2008; OMB Number 2040-0170; expires 12/31/2008.

EPA ICR Number 0229.17; NPDES and Sewage Sludge Monitoring Reports; a short term extension of the expiration date was granted by OMB on 09/25/2008; OMB Number 2040-0004; expires 12/31/2008.

EPA ICR Number 0270.42; Public Water System Supervision Program; a short term extension of the expiration date was granted by OMB on 09/30/2008; OMB Number 2040-0090; expires 12/31/2008.

EPA ICR Number 1895.03; Microbial Rules; a short term extension of the expiration date was granted by OMB on 10/01/2008; OMB Number 2040-0205; expires 12/31/2008.

EPA ICR Number 0922.07; Data Call-ins for the Special Review and Registration Review Programs; a short term extension of the expiration date was granted by OMB on 09/30/2008; OMB Number 2070-0057; expires 12/31/2008.

EPA ICR Number 1504.05; Data Generation for Pesticide Reregistration; a short term extension of the expiration date was granted by OMB on 09/30/2008; OMB Number 2070-0107; expires 12/31/2008.

EPA ICR Number 1911.02; Data Acquisition for Anticipated Residue and Percent of Crop Treated; a short term extension of the expiration date was granted by OMB on 09/30/2008; OMB Number 2070-0164; expires 12/31/2008.

Dated: October 7, 2008.
Sara Hisel-McCoy,
Director, Collection Strategies Division.

[FR Doc. E8-24273 Filed 10-10-08; 8:45 am]

BILLING CODE 6560-50-P